FEDERAL TRADE COMMISSION

Granting of Request for Early Termination of the Waiting Period Under the Premerger Notification Rules

Section 7A of the Clayton Act, 15 U.S.C. 18a, as added by Title II of the Hart-Scott Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans. No. | Acquiring | Acquired | Entities
Transactions Granted Early Termination—04/22/2008
20080908 | Nufarm Limited | Stephens Gro-Pro LLC | Gro-Pro, LLC.
20080988 | William Davidson | Robert Family Holdings, Inc | Siegel-Robert, Inc.
20081004 | Carlisle Companies Incorporated | Carol-Ann O'Mack | Carlyle Holdings, Inc.
20081010 | Platinum Equity Capital Partners II, L.P | Industrial Distribution Group, Inc | Industrial Distribution Group, Inc.
20081012 | The Procter & Gamble Company | Frederic, LLC | Frederic, LLC.
20081016 | Tata Motors Limited | Ford Motor Company | Jaguar and Land Rover
20081018 | Ospraie Special Opportunities (Offshore) Ltd | ConAgra Foods, Inc | Freebird II, LLC; Freebird I, LLC.
20081031 | The Walt Disney Company | The Children's Place Retail Stores, Inc | Hoop Retail Stores, LLC; Traxi LLC.
20081032 | Luxco | Citigroup Inc | GST AutoLeather, Inc.
20081035 | SUEZ | Carl S. Cummings, Sr | USG GA, LLC.
20081047 | EMC Corporation | Iomega Corporation | Iomega Corporation.
Transactions Granted Early Termination—04/23/2008
20081023 | Honeywell International Inc | Odyssey Investment Partners Fund III, LP | Safety Products Holdings, Inc.
Transactions Granted Early Termination—04/25/2008
20081017 | Participacoes Morro Vermelho S.A | Texas Industries Inc | Texas Industries Inc.
20081034 | Lindsay Goldberg & Bessemer II L.P | Remedial Construction Services, L.P | Remedial Construction Services, L.P.
Transactions Granted Early Termination—04/28/2008
20081000 | Honeywell International Inc | Peny J. Schmidt | Energy Services Group, LLC.
20081041 | New York University | Polytechnic University | Polytechnic University.
20081045 | Catholic Health East | Cathedral Healthcare System, Inc | Cathedral Health Services, Inc.; Columbus Hospital.
20081046 | JP Morgan Chase & Co | Clipper Windpower Plc | Clipper Windpower Plc.
20081054 | Richard L. Duchossois | Friedman Fleischer & Lowe Capital Partners, L.P | Milestone Technologies AV, Inc.
20081058 | Lindsay Goldberg & Bessemer II, L.P | Dr. James R. Leininger | Ambulatory Services of America, Inc.
20081061 | Takeda Pharmaceutical Company Limited | Millennium Pharmaceuticals, Inc | Millennium Pharmaceuticals, Inc.
20081065 | TZ Holdings, L.P | The TriZetto Group, Inc | The TriZetto Group, Inc.
20081069 | Dayton-Cox Trust A | Adify Corporation | Adify Corporation.
20081070 | J.P. Morgan Chase & Co | Markit Group Holdings Limited | Markit Group Holdings Limited.
20081073 | Bahram Akradi | Life Time Fitness, Inc | Life Time Fitness, Inc.
Transactions Granted Early Termination—04/29/2008
20081068 | Kinetic Concepts, Inc | LifeCell Corporation | LifeCell Corporation.
Transactions Granted Early Termination—04/30/2008
20080700 | Philip F. Anschutz | ABRY Broadcast Partners III, L.P | Consolidated Theatres Holdings, GP.
20081002 | ANSYS, Inc | Ansoft Corporation | Ansoft Corporation.
Transactions Granted Early Termination—05/01/2008
20081064 | Agrium Inc | UAP Holding Corp | UAP Holding Corp.
Transactions Granted Early Termination—05/02/2008
20080228 | Vallourec SA | Grant Prideco, Inc | Newco Partnership 2 and 3; Tube-Alloy Corporation.
20080884 | Cardinal Health, Inc | A. Joseph Brandmeyer | Enturia, Inc.
20081007 | International Paper Company | Weyerhaeuser Company | Weyerhaeuser Company.
20081049 | General Electric Company | Primestar Solar, Inc | Primestar Solar, Inc.
20081056 | Centrica plc | Great Plains Energy Incorporated | Strategic Energy, L.L.C.
20081060 | Starwood Energy Infrastructure Fund, L.P | The Bear Stearns Companies Inc | Greenhouse Holdings LLC; Thermo Cogeneration Partnership, L.P.
20081080 | Quilvest S.A | Estate of Robert H. Hamil, Deceased | Laney Directional Drilling Co.
20081081 | Carlyle Infrastructure Partners, L.P | Lanigan Partners, Ltd | ITS Technologies & Logistics, LLC.
20081083 | U.S. Bancorp | Fulton Financial Corporation | Delaware National Bank.
20081084 | Morgan Stanley | A.B.C. Learning Centres Limited | Learning Care Group (US) Inc.
20081092 | Konica Minolta Holdings, Inc | Danka Business Systems plc | Danka Office Imaging Company.
20081097 | Gores Capital Partners II, L.P | Westwood One, Inc | Westwood One, Inc.
Transactions Granted Early Termination—05/05/2008
20081053 | Klockner & Co. AG | The Taylor Group, Inc | Taylor Equipment and Machine Tool Corporation.
20081066 | NTR plc | Stirling Energy Systems Limited | Stirling Energy Systems Limited.
20081090 | Visterra Credit Union | Credit Union of Southern California | Credit Union of Southern California.
20081091 | XTO Energy Inc | Southwestern Energy Corporation | SEECO, Inc.
20081094 | KapStone Paper and Packaging Corporation | MeadWestvaco Corp | MeadWestvaco South Carolina, LLC.
Transactions Granted Early Termination—05/06/2008
20081086 | BB&T Corporation | Mitsubishi UFJ Financial Group, Inc | UnionBanc Insurance Services, Inc.
20081089 | Church & Dwight Co., Inc | Donata Holding SE | Del Pharmaceuticals, Inc.
Transactions Granted Early Termination—05/07/2008
20081037 | Valcon Acquisition Holding (Luxembourg) | JAG Research, Inc | IAG Research, Inc.
20081039 | McKesson Corporation | McQueary Bros. Drug Company | McQueary Bros. Drug Company.
20081088 | LGB Brock, LLC | Sterling Capital Partners, L.P | Atlantic Industrial Inc.
Transactions Granted Early Termination—05/08/2008
20081036 | Ryder System, Inc | James F. Hammel | Gator Leasing, Inc.
20081038 | Seadrill Limited | Pride International Inc | Pride International Inc.
20081087 | Olympic Investment Partners, L.P | Washington Mutual, Inc | Washington Mutual, Inc.
20081104 | Paine & Partners Capital Fund III AIV, L.P | Lisa May | American Gold Seafoods, LLC; Cypress Island Seafoods, LLC; Smoki Foods, Inc.
Transactions Granted Early Termination—05/09/2008
20081103 | Berkshire Hathaway Inc | SUEZ | Chehalis Power Generating, LLC.
Transactions Granted Early Termination—05/12/2008
20081033 | J. H. Whitney VI, L.P | Richard S. Crawford | FNF Construction, Inc.
20081096 | Manpower, Inc | Mr. & Mrs. Marlin S. Krebs | Manpower, Inc./California Peninsula.
20081098 | Lovell Minnick Equity Partners II LP | Mercer Global Advisors, Inc | Mercer Global Advisors, Inc.
20081099 | AEA Investors 2006 Fund L.P | FdG Capital Partners LLC | Implus Footcare, LLC.
20081101 | Argo Group International Holdings, Ltd | Heritage Underwriting Agency plc | Heritage Underwriting Agency plc.
20081105 | BP p.l.c | NiSource Inc | Whiting Clean Energy, Inc.
20081107 | William H. Gates III | Patriot Coal Corporation | Patriot Coal Corporation.
20081111 | ArcLight Energy Partners Fund II, L.P | Patriot Coal Corporation | Patriot Coal Corporation.
20081112 | ArcLight Energy Partners Fund I, L.P | Patriot Coal Corporation | Patriot Coal Corporation.
20081113 | Patriot Coal Corporation | Magnum Coal Company | Magnum Coal Company.
20081115 | Corsair NC Co-Invest, L.P | National City Corporation | National City Corporation.
20081127 | Galactic Holdings Ltd | Gilat Satellite Networks Ltd | Gilat Satellite Networks Ltd.
20081128 | V.F. Corporation | Mo Industries Holdings, Inc | Mo Industries Holdings, Inc.
20081134 | Hon Hai Precision Industry Co., Ltd | Sanmina-SCI Corporation | Sanmina-SCI Australia Pty Ltd.; Sanmina-SCI Hungary Electronics Manufacturing L.L.C.; Sanmina-SCI Systems de Mexico S.A. de C.V.; Sanmina-SCI Systems Services de Mexico S.A. de C.V.; Sanmina-SCI USA Inc.; SCI Technology, Inc.
20081138 | Discover Financial Services Citigroup Inc | Citigroup Inc | Diners Club International Ltd.
20081141 | California Coast Credit Union | First Future Credit Union | First Future Credit Union.
20081144 | Texas Energy Future Holdings Limited Partnership | CURRENT Group, LLC | CURRENT Communications of Texas, L.P.
Transactions Granted Early Termination—05/13/2008
20081123 | SunGard Capital Corp | Myles L. Strohl | Strohl Systems Group, Inc.
20081150 | Tygris Commercial Finance Group, Inc | DLJ Merchant Banking Partners III, L.P | U.S. Express Leasing, Inc.
20081151 | DLJ Merchant Banking Partners III, L.P | Tygris Commercial Finance Group, Inc | Tygris Commercial Finance Group, Inc.
Transactions Granted Early Termination—05/14/2008
20081043 | Nuance Communications, Inc | Paul Egerrnan | eScription, Inc.
20081044 | Nuance Communications, Inc | Ben Chigier | eScription, Inc.
20081050 | Warburg Pincus Private Equity VIII, L.P | Nuance Communications, Inc | Nuance Communications, Inc.
Transactions Granted Early Termination—05/16/2008
20081143 | XTO Energy Inc | Linn Energy, LLC | Linn Energy Holdings, LLC; Linn Operating, Inc.
20081153 | Goldman Sachs Vintage Fund IV Offshore, L.P | Blue Point Capital Partners, L.P | Columbus Holdings, Inc.; JFC Holding Corporation; Metal Technology Solutions, Inc.; Zero Corporation.
20081154 | Southwest Generation Holding Company, LLC | Black Hills Corporation | Black Hills Colorado, LLC; Black Hills Fountain Valley II, LLC; Black Hills Fountain Valley, LLC; Black Hills Nevada Operations, LLC; Black Hills Southwest, LLC; Harbor Congeneration Company, LLC; Valencia Power, LLC.
20081155 | Leucadia National Corporation | Jefferies Group, Inc | Jefferies Group, Inc.
20081157 | MatlinPatterson Global Opportunities Partners III L.P | Haven Eldercare, LLC | Haven Eldercare, LLC.
20081161 | Eramet SA | Holta Invest AS | Tinfos AS.
20081163 | Aquiline Financial Services Fund L.P | William J. Fishlinger | WRM America Holding Company, LLC.
20081173 | New Omaha Holdings L.P | M. Brooks Smith | InComm Holdings, Inc.
20081174 | M. Brooks Smith | New Omaha Holdings L.P | First Data Holdings Inc.
Transactions Granted Early Termination—05/19/2008
20081102 | Koninklijke DSM N.V | Robert S. Ward | The Polymer Technology Group, Inc.
20081133 | Unitil Corporation | NiSource Inc | Granite State Gas Transmission, Inc.; Northern Utilities, Inc.
20081145 | Dr. Ernst Volgenau | Era Systems Corporation | Era Systems Corporation.
20081149 | Platinum Equity Capital Partners II, L.P | Delphi Corporation | Delphi Automotive Systems (Holding), Inc.; Delphi Automotive Systems LLC; Delphi Technologies, Inc.
20081156 | ArcelorMittal | Richard Preservati | Extra Energy, Inc.; Imperial Resources, LLC; Mid Vol Coal Sales Prime Processing, Inc.; Ritchie Equipment, Inc.; Twin State Mining, Inc.
20081158 | Heartland Payment Systems, Inc | Alliance Data Systems Corporation | ADS Alliance Data Systems, Inc.; Alliance Data Network Services LLC.
20081159 | Pfizer Inc | AVANT Immunotherapeutics, Inc | Celldex Therapeutics, Inc.
20081162 | C.H. Boehringer Sohn AG & Co. KG | Sanderling Venture Partners VI, L.P | Actimis Pharmaceuticals, Inc.
20081184 | H.I.G. Capital Partners IV, L.P | Croda International Plc | Uniqema Americas LLC.
Transactions Granted Early Termination—05/20/2008
20080428 | Kongsberg Gruppen ASA | Hydroid Trust | Hydroid International, Inc.; Hydroid LLC.
20080927 | N.E.W. Customer Service Companies, Inc | Lonestar Holding Corp | Lonestar Holding Corp.
20080928 | Lonestar Holding Corp | N.E.W. Customer Service Companies, Inc | N.E.W. Customer Service Companies, Inc.
20080935 | H. Irving Grousbeck | Superholdco | Superholdco.
20080936 | Providence Equity Partners VI-A L.P | Superholdco | Superholdco.
20080937 | Welsh, Carson, Anderson & Stowe X, L.P | Superholdco | Superholdco.
20080938 | Providence Equity Partners VI L.P | Superholdco | Superholdco.
20080945 | Madison Dearborn Capital Partners V-C, L.P | Superholdco | Superholdco.
20080946 | Madison Dearborn Capital Partners V-A, L.P | Superholdco | Superholdco.
20080947 | Kevin M. Taweel | Superholdco | Superholdco.
20081071 | Monkwood Luxco SARL | Lake Compounce Limited Partnership | Lake Compounce Limited Partnership.
20081072 | Monkwood Luxco SARL | Kennywood Entertainment, Inc | Kennywood Entertainment, Inc.
20081110 | ASSA ABLOY AB | William V. Gurzenda | Rockwood Manufacturing Company, Inc.
20081117 | Lockheed Martin Corporation | Alexander J. Johnson Trust | Eagle Group International, LLC.
20081118 | Lockheed Martin Corporation | Terrell F. Johnson Trust | Eagle Group International, LLC.
20081120 | L'Oreal S.A | Francois Pinault | YSL Beaute Holding S.A.S.
Transactions Granted Early Termination—05/21/2008
20081076 | TransCanada Corporation | National Grid plc | KeySpan-Ravenswood, LLC; KeySpan-Ravenswood Services Corp.
Transactions Granted Early Termination—05/23/2008
20081142 | Norton Sound Economic Development Corporation | Jeffry P. Hendricks | Alaska Ocean Corporation; Alaska Ocean Seafood Limited.
20081185 | MedAssets, Inc | Welsh, Carson, Anderson & Stowe IX, L.P | Accuro Healthcare Solutions, Inc.
20081186 | Welsh, Carson, Anderson & Stowe IX, L.P | MedAssets, Inc | MedAssets, Inc.
20081194 | Hewitt Associates Inc | Richard and Nora Lewis | Disability Management Alternatives, LLC; LCG Holdings, LLC; Nucleus Technologies, LLC PDS, LLC; Workers Transition, LLC.
20081201 | QBE Insurance Group Limited | David J. and Teresa Disiere | Deep South Holding L.P.
20081206 | Symantec Corporation | SwapDrive, Inc | SwapDrive, Inc.
20081210 | SemGroup Energy Partners, L.P | SemGroup, L.P | SemCrude, L.P.
20081214 | Triton Fund II L.P | CisionAB | CisionAB.

FOR FURTHER INFORMATION CONTACT: Sandra M. Peay, Contact Representative; or Renee Hallman, Contact Representative; Federal Trade Commission, Premerger Notification Office, Bureau of Competition, Room H-303, Washington, DC 20580, (202) 326-3100.

By Direction of the Commission.
Donald S. Clark,
Secretary.

[FR Doc. E8-14630 Filed 7-3-08; 8:45 am]

BILLING CODE 6750-01-M